DEPARTMENT OF ENERGY

Federal Energy Regulatory Commission

[Docket Nos. EG25-514-000, EG25-515-000, EG25-516-000, EG25-517-000, EG25-518-000, EG25-519-000, EG25-520-000, EG25-521-000, EG25-522-000, EG25-523-000, EG25-524-000, EG25-525-000, EG25-526-000, EG25-527-000, EG25-528-000, EG25-529-000, EG25-530-000, EG25-531-000, EG25-532-000, EG25-533-000, EG25-534-000, EG25-535-000, EG25-536-000, EG25-537-000, EG25-538-000, EG25-539-000, EG25-540-000, EG25-541-000, EG25-542-000, EG25-543-000, EG25-544-000, EG25-545-000, EG25-546-000, FC25-4-000, FC25-5-000]

Mulqueeney Wind Energy LLC; Big Creek Solar 1 LLC; Sunset Ridge Energy Center, LLC; Citrus Flatts Energy Center, LLC; Milano Solar, LLC; Three W Solar LLC; Baron Winds II LLC; Red Egret LLC; Dodge Flat Energy Storage, LLC; Cedar Springs Energy Storage IV, LLC; Jackalope Wind II, LLC; Union Ridge Solar, LLC; Enterprise Storage LLC; Granite Mountain BESS East LLC; Anticline Energy Storage, LLC; Chugwater Energy Center, LLC; Chugwater Wind, LLC; Wheatridge Northeast Wind, LLC; Carousel Energy Storage, LLC; Pleasant Prairie Solar Energy LLC; Leaning Juniper 2B, LLC; Hill Solar II, LLC; BSE TX Storage LLC Bridge Solar Energy Development II LLC; Green River Energy Center, LLC; PVS 2, LLC; SR Adamsville, LLC; BT Cantwell Solar, LLC; Huckleberry Solar, LLC; Mayes Solar, LLC; Salt Branch Solar, LLC; Twelvemile Energy II, LLC; Pulaski Solar, LLC; AMHW-ENERGY Sp. z o. o.; Ferme Eolienne de Saint Pierre de Maille 2 S.A.S.; Notice of Effectiveness of Exempt Wholesale Generator and Foreign Utility Company Status

Take notice that during the month of November 2025, the status of the above-captioned entities as Exempt Wholesale Generators became effective by operation of the Commission's regulations. 18 CFR 366.7(a) (2025).

Dated: December 1, 2025.
Carlos D. Clay,
Deputy Secretary.

[FR Doc. 2025-21948 Filed 12-3-25; 8:45 am]

BILLING CODE 6717-01-P